COMMITTEE FOR THE IMPLEMENTATION OF TEXTILE AGREEMENTS

Entry of Shipments of Cotton, Wool, and Man-Made Fiber Apparel in Excess of 2008 Agreement Limits

December 19, 2008

AGENCY: The Committee for the Implementation of Textile Agreements (CITA).

ACTION: Directive to Commissioner, Customs and Border Protection.

FOR FURTHER INFORMATION CONTACT: Ross Arnold, International Trade Specialist, Office of Textiles and Apparel, U.S. Department of Commerce, (202) 482-4212.

SUPPLEMENTARY INFORMATION:

Authority: Executive Order 11651 of March 3, 1972, as amended, Section 204 of the Agricultural Act of 1956, as amended (7 U.S.C. 1857).

In the letter to the Commissioner of U.S. Customs and Border Protection published below, U.S. Customs and Border Protection is directed to implement staged entry limits for China for shipments in excess of 2008 agreement limits.

In a Federal Register Notice published on June 16, 2008 (73 FR 33992), the Committee for the Implementation of Textile Agreements (CITA) advised the public that any overshipments of the 2008 limits of the U.S. - China Bilateral Textile Agreement would be subject to staged entry procedures laid out in the notice.

The procedures laid out below apply only in cases of overshipments of the 2008 agreed quota limits for China.

For all shipments exported in 2008 that exceed the applicable 2008 agreed quota limits for China, entry will not be permitted until February 1, 2009. From February 1 through February 28, 2009, entry will be permitted to goods in an amount equal to 5 percent of the applicable 2008 base quota limit. For each succeeding month, beginning on the first day of the month and extending through the last day of the month, entry will be permitted to goods in an amount equal to 5 percent of the applicable base 2008 quota limit, until all shipments in excess of the quota limits have been entered.

The 5 percent staged entry limits described above are published in the following letter to the Commissioner of U.S. Customs and Border Protection.

Janet E. Heinzen,
Acting Chairman, Committee for the Implementation of Textile Agreements.

Committee for the Implementation of Textile Agreements

December 19, 2008.

Commissioner,

U.S. Customs and Border Protection, Washington, DC 20229.

Dear Commissioner: This directive provides instructions on permitting entry to goods shipped in excess of 2008 quota limits for China.

For all shipments exported in 2008 that exceed the applicable 2008 agreed quota limits for China, you are directed to deny entry until February 1, 2009, subject to the following procedure. From February 1, through February 28, 2009, you are directed to permit entry to goods in an amount equal to 5 percent of the applicable 2008 base quota limit. For each succeeding month, beginning on the first day of the month and extending through the last day of the month, you are directed to permit entry to goods in an amount equal to 5 percent of the applicable base 2008 quota limit, until all shipments in excess of the quota limits have been entered.

The monthly 5 percent staged entry limits described above are listed below:

Category | 5 percent of base limit
332/432/632-T (plus baby socks) ¹. | 4,252,922 dozen pair, of which not more than 4,043,310 dozen pair shall be in categories 332/432/632-B (plus baby socks) ².
347/348 | 1,272,148 dozen.
352/652 | 1,225,759 dozen.
¹ Categories 332/432/632-T: baby socks: only HTS numbers 6111.20.6050, 6111.30.5050 and 6111.90.5050; within Category 632: only HTS number 6115.10.4000, 6115.10.5500, 6115.30.9010, 6115.96.6020, 6115.96.9020, 6115.99.1420, and 6115.99.1920.
² Categories 332/432/632-B: baby socks: only HTS numbers 6111.10.6050, 6111.30.5050 and 6111.90.5050; within Category 632: only HTS numbers 6115.10.4000, 6115.10.5500, 6115.96.6020, 6115.96.9020, 6115.99.1420, and 6115.99.1920.

The Committee for the Implementation of Textile Agreements has determined that this action falls within the foreign affairs exception to the rulemaking provisions of 5 U.S.C. 553(a)(1).

Sincerely,

Janet E. Heinzen,

Acting Chairman, Committee for the Implementation of Textile Agreements.

[FR Doc. E8-30691 Filed 12-23-08; 8:45 am]

BILLING CODE 3510-DS